DEPARTMENT OF TRANSPORTATION

Coast Guard

33 CFR Part 100

[CGD08-02-011]

RIN 2115-AE46

Special Local Regulations; SAIL MOBILE 2002, Port of Mobile, Mobile, AL

AGENCY: Coast Guard, DOT.

ACTION: Temporary final rule.

SUMMARY: The Coast Guard is establishing special local regulations in the Port of Mobile for SAIL MOBILE 2002 in Mobile, Alabama. This action is necessary to provide for the safety of life and property on the navigable waters of the United States during SAIL MOBILE 2002 activities. These regulations establish special anchorages and regulate vessel traffic in Mobile Bay and the Mobile River from July 3, 2002 to July 8, 2002.

DATES: This rule is effective from 6 a.m. on July 3, 2002 to 5 p.m. on July 8, 2002.

ADDRESSES: Documents indicated in this preamble as being available in the docket, are part of docket [CCGD8-02-011] and are available for inspection or at copying Marine Safety Office Mobile, 150 North Royal Street, P.O. Box 2924, Mobile, AL 36652-2924, between 8 a.m. and 4 p.m., Monday through Friday, except Federal holidays.

FOR FURTHER INFORMATION CONTACT: Lieutenant (LT) Jeff Morgan or Lieutenant Junior Grade (LTJG) Mark Sawyer, Marine Safety Office Mobile, Operations Department, at (251) 441-5121.

SUPPLEMENTARY INFORMATION:

Regulatory Information

We did not publish a notice of proposed rulemaking (NPRM) for this regulation. Under 5 U.S.C. 553(b)(B), the Coast Guard finds that good cause exists for not publishing an NPRM, and, under 5 U.S.C. 553(d)(3), good cause exists for making this rule effective less than 30 days after publication in the Federal Register. Information was made available to the Coast Guard in insufficient time to publish an NPRM or for publication in the Federal Register 30 days prior to the event. Publishing an NPRM and delaying its effective date would be contrary to public interest since immediate action is needed to protect participating vessels and mariners as well as the public from the hazards associated with this event.

Background and Purpose

The City of Mobile, Alabama is sponsoring a Parade of Tall Ships, titled SAIL MOBILE 2002, in Mobile Bay and Mobile River as part of the city's tri-centennial celebration. Events are scheduled from July 3, 2002 through July 8, 2002. Participating vessels, including tall ships, will be at anchorage in Mobile Bay on July 3, 2002. On July 4, 2002, the participating vessels will transit from anchorage up the Mobile Bay Ship Channel to the Mobile River where they will make a 180 degree turn just south of the Cochran Bridge and proceed to their designated berth or anchorage. Participating vessels are scheduled to remain in Mobile until July 8, 2002. The Coast Guard expects a minimum of 2,000 spectator craft for this event.

The Coast Guard is establishing a temporary regulated area to provide for the safety of spectators and participants of SAIL MOBILE 2002. This regulated area is intended to protect participating vessels and spectators by restricting vessel traffic around participating vessels, establishing spectator viewing areas, and establishing temporary anchorages for participating vessels. All vessels, other than officially registered participants of SAIL MOBILE 2002 are prohibited from using the participant anchorage areas as described in this rule.

The regulated area includes all waters of Mobile Bay from the mouth of the bay between Fort Morgan and Dauphin Island to the Mobile River south of the Cochran Bridge near mile 3 of the Mobile River. Within this regulated area there will be two participant anchorages for participating vessels only. Only vessels officially registered in the Parade of Tall Ships will be permitted to anchor in these areas.

Participant Anchorage 1 will be in effect from 6 a.m. on July 3, 2002 to 11 p.m. on July 4, 2002, and will include that portion of the Mobile Bay within the following boundaries: 30°14′48″ N, 88°02′14″ W to 30°14′47″ N, 88°00′53″ W to 30°14′12″ N, 88°00′55″ W to 30°13′47″ N, 88°01′52″ W to 30°14′48″ N, 88°02′14″ W [NAD 83].

Participant Anchorage 2 will be in effect from 11 a.m. on July 4, 2002 to 5 p.m. on July 8, 2002, and will include all the waters of the Mobile River within the following boundaries: 30°41′36″ N, 88°02′04″ W to 30°41′04″ N, 88°02′06″ W to 30°41′31″ N, 88°02′05″ W to 30°41′32″ N, 88°02′02″ W to 30°41′36″ N, 88°02′04″ W [NAD 83].

While participating vessels are underway within the regulated area, other vessels may not approach within 100 yards of the participating vessel without the express permission of the Coast Guard Patrol Commander. While participating vessels are at anchor or moored, other vessels may not approach within 50 feet of the participating vessel without the express permission of the Coast Guard Patrol Commander. The Coast Guard Patrol Commander will be the Captain of the Port, Mobile or a designated commissioned, warrant or petty officer of the U.S. Coast Guard.

Event organizers plan to establish spectator viewing areas for vessels along the parade route in the Mobile River. Spectator areas will be located outside of the Mobile Shipping Channel in the Mobile River south of the Cochran Bridge. Markers along the channel south of the Cochran Bridge will outline these spectator areas. More precise information regarding these spectator areas will be published via local notices and general media as soon as the information is available. Spectator vessels are not allowed outside these specially marked areas 30 minutes immediately prior to and during the passing of the Parade of Tall Ships without the express permission of the Coast Guard Patrol Commander. The parade is scheduled from 11 a.m. to 5 p.m. on July 4, 2002.

These special local regulations are necessary to ensure the safety of life and property on the navigable waters of the United States. It may be necessary for the Coast Guard to establish additional safety or security zones in addition to these rules to safeguard dignitaries and certain vessels participating in the event. If the Coast Guard deems it necessary to establish such zones at a later date, the details of those zones may be announced separately via the Federal Register, Local Notice to Mariners, Marine Safety Broadcast, or any other means available.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

The Coast Guard expects the economic impact of this rule to be so minimal that a full Regulatory Evaluation under paragraph 10(e) of the regulatory policies and procedures of DOT is unnecessary. This rule will only be in effect for a short period of time, and notifications to the marine community will be made through broadcast notice to mariners. The impacts on routine navigation are expected to be minimal. Although the regulated area will apply to the entire Mobile Bay and part of the Mobile River, normal traffic will primarily be affected only on July 4, 2002. Vessels needing to transit within 100 yards of an underway participating vessel or 50 feet of an anchored or moored participating vessel may seek to gain permission from the Coast Guard Patrol Commander or his designated on-scene representative.

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities for the reasons enumerated under the Regulatory Evaluation section above. If you are a small business entity and are significantly affected by this regulation please contact LT Jeff Morgan or LTJG Mark Sawyer, Marine Safety Office Mobile, Operations Department, at (251) 441-5121.

Assistance for Small Entities

Under section 213(a) of the Small Business Regulatory Enforcement Fairness Act of 1996 (Public Law 104-121), we offered to assist small entities in understanding the rule so that they can better evaluate its effects on them and participate in the rulemaking. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we so discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraphs 34(h) and 34(f) of Commandant Instruction M16475.lD, this rule is categorically excluded from further environmental documentation. A “Categorical Exclusion Determination” is available in the docket for inspection or copying where indicated under ADDRESSES.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 33 U.S.C. 1233; 49 CFR 1.46.

2. A new temporary § 100.35T-08-011 is added to read as follows:

§ 100.35T-08-011 Special Local Regulations; SAIL MOBILE 2002 Mobile Bay, Mobile, Alabama.

(a) Definitions.

Coast Guard Patrol Commander is the Captain of the Port Mobile or a designated commissioned, warrant, or petty officer of the U.S. Coast Guard.

Non-Participating vessels are all other vessels not registered as participants for the Parade of Tall Ships on July 4, 2002.

Participating vessels are vessels registered to participate in the official Parade of Tall Ships on July 4, 2002.

(b) Regulated areas. The following are regulated areas:

(1) Event area. All waters of Mobile Bay from the mouth of the bay between Fort Morgan and Dauphin Island to the Mobile River south of the Cochran Bridge near mile 3 of the Mobile River.

(2) Participant anchorage areas.

(i) Participant Anchorage 1 includes that portion of the Event Area in Mobile Bay bounded by a line connecting the following points: Starting at 30°14′48″ N, 88°02′14″ W; thence to 30°14′47″ N, 88°00′53″ W; thence to 30°14′12″ N, 88°00′55″ W; thence to 30°13′47″ N, 88°01′52″ W; thence to 30°14′48″ N, 88°02′14″ W [NAD 1983].

(ii) Participant Anchorage 2 includes all the waters of the Event Area in the Mobile River bounded by a line connecting the following points: Starting at 30°41′36″ N, 88°02′04″ W; thence to 30°41′04″ N, 88°02′06″ W; thence to 30°41′31″ N, 88°02′05″ W; thence to 30°41′32″ N, 88°02′02″ W; thence to 30°41′36″ N, 88°02′04″ W [NAD 1983].

(3) Spectator areas. Spectator areas for viewing the parade will be outlined by markers outside of, and along the channel of, the Mobile River south of the Cochran Bridge.

(c) Regulations. (1) Non-participating vessels are not allowed to approach within 100 yards of any participating vessel that is underway within the regulated areas in paragraph (b) of this section without express authorization by the Coast Guard Patrol Commander.

(2) Non-participating vessels are not allowed to approach within 50 feet of any participating vessel that is moored or anchored within the Event Area without express authorization by the Coast Guard Patrol Commander.

(3) Only participating vessels are permitted to anchor in the participant anchorages.

(4) All persons and vessels shall comply with the instructions of the Coast Guard Patrol Commander.

(5) All non-partipating vessels in the Event Area must remain in the marked spectator areas from 30 minutes immediately prior to and during the Parade of Tall Ships unless expressly authorized by the Coast Guard Patrol commander.

(d) Enforcement schedule. (1) The Parade of Tall Ships is scheduled to begin at 11 a.m. and end at 5 p.m. on July 4, 2002.

(2) Participant Anchorage 1 will be enforced from 6 a.m. on July 3, 2002 to 11 p.m. on July 4, 2002.

(3) Participant Anchorage 2 will be enforced from 11 a.m. on July 4, 2002 to 5 p.m. on July 8, 2002.

(e) Effective dates. (1) This section is effective from 6 a.m. on July 3, 2002, to 5 p.m. on July 8, 2002.

Dated: June 7, 2002.
Roy J. Casto,
Rear Admiral, U.S. Coast Guard Commander, Eighth Coast Guard District.

[FR Doc. 02-15796 Filed 6-21-02; 8:45 am]

BILLING CODE 4910-15-U